DEPARTMENT OF HOUSING AND URBAN DEVELOPMENT

[Docket No. FR-4837-D—48]

Redelegation of Authority To the Departmental Enforcement Center Regarding Authority To Initiate Civil Money Penalty Actions Under Certain Civil Money Penalty Regulations and To Issue Notice of Violation of a Regulatory Agreement and Notice of Default of a Housing Assistance Payments Contract

AGENCY: Office of the General Counsel, HUD.

ACTION: Notice.

SUMMARY: HUD is publishing elsewhere in today's Federal Register, a notice that advises that the Assistant Secretary for Housing-Federal Housing Commissioner has redelegated to the General Counsel the authority to (1) issue a notice of violation under the terms of a regulatory agreement, (2) issue a notice of default under the terms of a section 8 housing assistance payments contract, and (3) take all actions permitted under 24 CFR 30.45, 30.36, and 30.68. This notice advises the public of a redelegation of that authority from the General Counsel to the Director of the HUD Departmental Enforcement Center (DEC) and, with respect to certain functions, concurrent redelegation to the Directors of the DEC Satellite Offices.

EFFECTIVE DATE: March 5, 2004.

FOR FURTHER INFORMATION CONTACT: Herbert L. Goldblatt, Assistant General Counsel, Office of Program Enforcement, Office of General Counsel, Department of Housing and Urban Development, Portals Building, Suite 200, 1250 Maryland Avenue, SW., Washington, DC 20024, telephone (202) 708-3856. This is not a toll free number. For persons with hearing or speech impairments, the number may be accessed by TTY by calling the Federal Information Relay Service at 1-800-877-8339.

SUPPLEMENTARY INFORMATION: In enforcing requirements of HUD's housing and section 8 housing assistance payments programs, the Department must from time to time notify owners that they are in violation of a regulatory agreement on a HUD multifamily housing project or property, or that they are in default of a housing assistance payments contract. This notice advises that the General Counsel is redelegating to the Director of the DEC and, concurrently, to the Director of the DEC Satellite Offices the authority to issue such notices.

This notice advises that the General Counsel is also redelegating to the Director of the DEC and, concurrently, to the Directors of the DEC Satellite Offices the authority to impose civil money penalties and take all other action under 24 CFR 30.45 and 30.68. Further, the General Counsel is redelegating authority to the Director of the DEC to impose civil money penalties and take all other action under 24 CFR 30.36.

Accordingly, the General Counsel hereby retains and redelegates authority as follows:

Section A. Redelegation of Authority to Director of DEC and Directors of DEC Satellite Offices: The Director of the DEC and the Directors of the DEC Satellite Offices are hereby redelegated authority to issue a notice of violation under the terms of a regulatory agreement and a notice of default under the terms of a section 8 housing assistance payments contract. Authority is redelegated to the Director of the DEC and the Directors of the DEC Satellite Offices to take all actions permitted under 24 CFR 30.45 and 30.68.

Section B. Redelegation of Authority to Director of DEC: Authority is redelegated to the Director of the DEC to take all actions permitted under 24 CFR 30.36.

Section C. Further Redelegation: The Director of the DEC and the Directors of the DEC Satellite Offices are not authorized to redelegate the authority described in Sections A and B.

Section D. Authority Excepted: The authority redelegated does not include authority to waive any regulations issued under the authority of the Assistant Secretary for Housing-Federal Housing Commissioner.

Section E. Revocation of Authority: The General Counsel may revoke the authority authorized herein, in whole or in part, at any time.

Authority: Section 7(d) of the Department of Housing and Urban Development Act (42 U.S.C. 3535(d)).

Dated: March 5, 2004.
Richard A. Hauser,
General Counsel.

[FR Doc. 04-5603 Filed 3-11-04; 8:45 am]

BILLING CODE 4210-67-P